DEPARTMENT OF VETERANS AFFAIRS

[OMB Control No. 2900-NEW]

Agency Information Collection Activity: VHA Fraud, Waste and Abuse Complaint Form

AGENCY: Veterans Health Administration, Department of Veterans Affairs.

ACTION: Notice.

SUMMARY: Veterans Health Administration (VHA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Comments must be received on or before August 19, 2024.

ADDRESSES: Comments must be submitted through www.regulations.gov.

FOR FURTHER INFORMATION CONTACT:

Program-specific information: Rebecca Mimnall, 202-695-9434, vhacopra@va.gov.

VA PRA information: Maribel Aponte, 202-461-8900, vacopaperworkreduact@va.gov.

SUPPLEMENTARY INFORMATION: Under the PRA of 1995, Federal agencies must obtain approval from the Office of Management and Budget (OMB) for each collection of information they conduct or sponsor. This request for comment is being made pursuant to section 3506(c)(2)(A) of the PRA.

With respect to the following collection of information, VHA invites comments on: (1) whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Title: VHA Fraud, Waste and Abuse Complaint Form (VA Form 10-390).

OMB Control Number: 2900-NEW. https://www.reginfo.gov/public/do/PRASearch (Once at this link, you can enter the OMB Control Number to find the historical versions of this Information Collection).

Type of Review: New collection.

Abstract: The Secretary of VA has broad authority under Title 38 United States Code, section 501, to protect Veterans and their family members from fraud and enforce compliance with federal laws and regulations. The VA is an active participant in the cross-government Veteran Scam and Fraud Evasion (VSAFE) campaign and Task Force, and this information collection supports the goals for the reporting and resolution of potential fraud issues.

The purpose of this information collection is to receive and process complaints related to fraud, waste and abuse in VA health care programs. An individual can file a complaint with the VA Office of Integrity and Compliance (OIC) using the Department's regular mail (letter), email, hotline telephone line, fax or, in the future, by filing a web-based complaint. The new VA Form 10-390 can be used by individuals to capture information for a fraud, waste or abuse complaint. The form may be submitted anonymously, and there is no requirement to complete all the fields. All complaints are entered into the Compliance Inquiry Reporting & Tracking System (CIRTS), which is used by VA OIC Staff to record and track complaints as they are processed by VA.

Affected Public: Individuals and households.

Estimated Annual Burden: 283 hours.

Estimated Average Burden per Respondent: 10 minutes.

Frequency of Response: On occasion.

Estimated Number of Respondents: 1,700.

Authority: 44 U.S.C. 3501 et seq.

Dorothy Glasgow,
VA PRA Clearance Officer, (Alt),Office of Enterprise and Integration/Data Governance Analytics, Department of Veterans Affairs.

[FR Doc. 2024-13445 Filed 6-18-24; 8:45 am]

BILLING CODE 8320-01-P